DEPARTMENT OF AGRICULTURE

National Institute of Food and Agriculture

Solicitation of Veterinary Shortage Situation Nominations for the Veterinary Medicine Loan Repayment Program (VMLRP)

AGENCY: National Institute of Food and Agriculture, USDA.

ACTION: Notice and solicitation for nominations.

SUMMARY: The National Institute of Food and Agriculture (NIFA) is soliciting nominations of veterinary service shortage situations for the Veterinary Medicine Loan Repayment Program (VMLRP) for fiscal year (FY) 2016, as authorized under the National Veterinary Medical Services Act (NVMSA), 7 U.S.C. 3151a. This notice initiates the nomination period and prescribes the procedures and criteria to be used by State, Insular Area, DC and Federal Lands to nominate veterinary shortage situations. Each year all eligible nominating entities may submit nominations, up to the maximum indicated for each entity in this notice. NIFA is conducting this solicitation of veterinary shortage situation nominations under a previously approved information collection (OMB Control Number 0524-0046).

DATES: Shortage situation nominations, both new and carry over, must be submitted on or before February 10, 2016.

ADDRESSES: Submissions must be made by clicking the submit button on the Veterinarian Shortage Situation nomination form provided in the VMLRP Shortage Situations section at www.nifa.usda.gov/vmlrp.

This form is sent as a data file directly to the Veterinary Medicine Loan Repayment Program; National Institute of Food and Agriculture; U.S. Department of Agriculture.

FOR FURTHER INFORMATION CONTACT: Danielle Tack; Program Coordinator, Veterinary Science; National Institute of Food and Agriculture; U.S. Department of Agriculture; STOP 2220; 1400 Independence Avenue SW., Washington, DC 20250-2220; Voice: 202-401-6802; Fax: 202-401-6156; Email: vmlrp@nifa.usda.gov.

SUPPLEMENTARY INFORMATION:

Background and Purpose

A series of three peer-reviewed studies published in 2007 in the Journal of the American Veterinary Medical Association (JAVMA), and sponsored by the Food Supply Veterinary Medicine Coalition (www.avma.org/KB/Resources/Reference/Pages/about-fsvm-coalition.aspx), drew considerable attention to an existing and apparent growing shortage of food supply veterinarians, the causes of shortages in this sector, and the consequences to the US food safety infrastructure and to the general public if this trend continues to worsen. Subsequently the Government Accountability Office released a report entitled “Veterinary Workforce: Actions Are Needed to Ensure Sufficient Capacity for Protecting Public and Animal Health” (GAO-09-178: Feb 18, 2009). This report was followed by a National Academies of Science report in 2013 entitled “Workforce Needs in Veterinary Medicine”. While the 2013 report concluded that some sectors of the veterinary workforce are not in shortage, the authors affirmed that “livestock farmers who live far from populated areas have difficulty obtaining veterinary care.” Furthermore, regarding the largest subgroup of veterinarians serving the food animal industries, the reported stated, “. . . new graduates are not entering this type of practice anymore, [and therefore] food-animal-predominant veterinarians, as a group, are now composed of rapidly-aging members.”

Food supply veterinary medicine embraces a broad array of veterinary professional activities, specialties and responsibilities, and is defined as the full range of veterinary medical practices contributing to the production of a safe and wholesome food supply and to animal, human, and environmental health. The privately practicing food animal veterinary practitioner population within the US is, numerically, the largest, and arguably the most important single component of the food supply veterinary medical sector. Private practice food animal veterinarians, working closely with livestock producers and State and Federal officials, constitute the first line of defense against spread of endemic and zoonotic diseases, introduction of high consequence foreign animal diseases, emergence and propagation of antibiotic resistance, and other threats to the health and wellbeing of both animals and humans who consume animal products.

Among the most alarming findings of the Coalition-sponsored studies was that insufficient numbers of veterinary students are selecting food supply veterinary medical careers. This development has led both to current workforce imbalances and to projected worsening of localized shortages over the subsequent 10 years. Burdensome educational debt was the leading concern students listed for opting not to choose a career in food animal practice or other food supply veterinary sectors. According to the American Veterinary Medical Association's (AVMA) 2015 report on veterinary debt and income, the mean veterinary educational debt for students graduating from veterinary school with debt was $153,191. Such debt loads incentivize students to select other veterinary careers, such as companion animal medicine, which tend to be more financially lucrative and, therefore, enable students to more quickly repay their outstanding educational loans. Furthermore, when this issue was studied in the Coalition report from the perspective of identifying solutions to this workforce imbalance, panelists were asked to rate 18 different strategies for addressing shortages. Responses from the panelists overwhelmingly showed that student debt repayment and scholarship programs were the most important strategies in addressing future shortages (JAVMA 229:57-69). When the VMLRP was first authorized in 2005, the average graduating educational debt of veterinarians was approximately $75,000. Since that time average educational debt burden has more than doubled thereby greatly exacerbating the leading factor promoting the workforce imbalance this program seeks to mitigate.

The VMLRP is aligned with the USDA Strategic Plan for Fiscal Years 2014-2018, particularly with the following strategic goals and objectives: Goal 1—Assist Rural Communities to Create Prosperity so They Are Self-Sustaining, Repopulating, and Economically Thriving, Goal 3—Help America Promote Agricultural Production and Biotechnology Exports as America Works to Increase Food Security, Objective 4.3—Protect Public Health by Ensuring Food is Safe, and Objective 4.4—Protect Agricultural Health by Minimizing Major Diseases and Pests to Ensure Access to Safe, Plentiful, and Nutritious Food. A copy of the USDA Strategic Plan is available at www.ocfo.usda.gov/usdasp/sp2014/usda-strategic-plan-fy-2014-2018.pdf.

Paperwork Reduction Act

In accordance with the Office of Management and Budget (OMB) regulations (5 CFR part 1320) that implement the Paperwork Reduction Act of 1995 (44 U.S.C. Chapter 35), the information collection and recordkeeping requirements imposed by the implementation of these guidelines have been approved by OMB Control Number 0524-0046.

List of Subjects in Guidelines for Veterinary Shortage Situation Nominations

I. Preface and Authority

II. Nomination of Veterinary Shortage Situations

A. General

1. Eligible Shortage Situations

2. Authorized Respondents and Use of Consultation

3. Rationale for Capping Nominations and State Allocation Method

4. State Allocation of Nominations

5. FY 2016 Shortage Situation Nomination Process

6. Submission and Due Date

7. Period Covered

8. Definitions

B. Nomination Form and Description of Fields

1. Access to Nomination Form

2. Physical Location of Shortage Area or Position

3. Overall Priority of Shortage

4. Type I Shortage

5. Type II Shortage

6. Type III Shortage

7. Specifying a Different Service Time Requirement (Optional)

8. Written Response Sections

C. NIFA Review of Shortage Situation Nominations

1. Review Panel Composition and Process

2. Review Criteria Guidelines for Veterinary Shortage Situation Nominations

I. Preface and Authority

In January 2003, the National Veterinary Medical Service Act (NVMSA) was passed into law adding section 1415A to the National Agricultural Research, Extension, and Teaching Policy Act of 1997 (NARETPA). This law established a new Veterinary Medicine Loan Repayment Program (7 U.S.C. 3151a) authorizing the Secretary of Agriculture to carry out a program of entering into agreements with veterinarians under which they agree to provide veterinary services in veterinarian shortage situations.

In FY 2010, NIFA announced the first funding opportunity for the VMLRP. From FY 2010 through FY 2015, NIFA received 995 applications from which 291 VMLRP awards totaling $25,292,341 were issued. Funding for FY 2016 and future years are based on annual appropriations and balances, if any, carried forward from prior years, and may vary from year to year.

Section 7105 of the Food, Conservation, and Energy Act of 2008, Public Law 110-246, (FCEA) amended section 1415A to revise the determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

NARETPA section 1415A requires the Secretary, when determining the amount of repayment for a year of service by a veterinarian to consider the ability of USDA to maximize the number of agreements from the amounts appropriated and to provide an incentive to serve in veterinary service shortage areas with the greatest need.

The Secretary delegated the authority to carry out this program to NIFA pursuant to 7 CFR 2.66(a)(141).

Pursuant to the requirements enacted in the NVMSA of 2004 (as revised), and the implementing regulation for this Act, Part 3431 Subpart A of the VMLRP Final Rule [75 FR 20239-20248], NIFA hereby implements guidelines for authorized State Animal Health Officials (SAHO) to nominate veterinary shortage situations for the FY 2016 program cycle:

II. Nomination of Veterinary Shortage Situations

A. General

1. Eligible Shortage Situations

Section 1415A of NARETPA, as amended and revised by Section 7105 of FCEA directs determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

While the NVMSA (as amended) specifies priority be given to food animal medicine shortage situations, and that consideration also be given to specialty areas such as public health, epidemiology and food safety, the Act does not identify any areas of veterinary practice as ineligible. Accordingly, all nominated veterinary shortage situations will be considered eligible for submission. However, assessment of submitted nominations by the external review panel convened by NIFA will reflect the intent of Congress that priority be given to certain types of veterinary service shortage situations. NIFA therefore anticipates that the stronger nominations will be those directly addressing food supply veterinary medicine shortage situations.

NIFA has adopted definitions of the practice of veterinary medicine and the practice of food supply medicine that are broadly inclusive of the critical roles veterinarians serve in both public practice and private practice situations. Nominations describing either public or private practice veterinary shortage situations will therefore be eligible for submission.

2. State Respondents and Use of Consultation

The only authorized respondent on behalf of each State is the chief State Animal Health Official (SAHO), as duly authorized by the Governor or the Governor's designee in each State. The chief SAHO must submit nominations using the Veterinarian Shortage Situation Nomination Form (OMB Control Number 0524-0046), which is available in the VMLRP Shortage Situations section on the VMLRP Web site at www.nifa.usda.gov/vmlrp. One form must be submitted for each nominated shortage situation. When selecting “SUBMIT” on the form a data file will be sent directly to NIFA. NIFA strongly encourages the SAHO to involve leading health animal experts in the State in the identification and prioritization of shortage situation nominations.

3. Rationale for Capping Nominations and State Allocation Method

In its consideration of fair, transparent and objective approaches to solicitation of shortage area nominations, NIFA evaluated three alternative strategies before deciding on the appropriate strategy. The first option considered was to impose no limits on the number of nominations submitted. The second was to allow each state the same number of nominations. The third (eventually selected) was to differentially cap the number of nominations per state based on defensible and intuitive criteria.

The first option, providing no limits to the number of nominations per state, is fair to the extent that each state and insular area has equal opportunity to nominate as many situations as desired. However, funding for the VMLRP is limited (relative to anticipated demand), so allowing potentially high and disproportionate submission rates of nominations could both unnecessarily burden the nominators and the reviewers with a potential avalanche of nominations and dilute highest need situations with lower need situations. Moreover, NIFA believes that the distribution of opportunity under this program (i.e., distribution of mapped shortage situations resulting from the nomination solicitation and review process) should roughly reflect the national distribution of food supply veterinary service demand. By not capping nominations based on some objective criteria, it is likely there would be no correlation between the mapped pattern and density of certified shortage situations and the actual pattern and density of need. This in turn could undermine confidence in the program with Congress, the public, and other stakeholders.

The second option, limiting all states and insular areas to the same number of nominations suffers from some of the same disadvantages as option one. It has the benefit of limiting administrative burden on both the SAHO and the nomination review process. However, like option one, there would be no correlation between the mapped pattern of certified shortage situations and the actual pattern of need. For example, Guam and Rhode Island would be allowed to submit the same number of nominations as Texas and Nebraska, despite the large difference in the sizes of their respective animal agriculture industries and rural land areas requiring veterinary service coverage.

The third option, to cap the number of nominations in relation to major parameters correlating with veterinary service demand, achieves the goals both of practical control over the administrative burden to the states and NIFA, and of achieving a mapped pattern of certified nominations that approximates the actual shortage distribution. In addition, this method limits dilution of highest need areas with lower need areas. The disadvantage of this strategy is that there is no validated, unbiased, direct measure of veterinary shortage, and so it is necessary to employ parameters that correlate with the hypothetical cumulative relative need for each state in comparison to other states.

In the absence of a validated unbiased direct measure of relative veterinary service need or risk for each state and insular area, the National Agricultural Statistics Service (NASS) provided NIFA with reliable public data that correlate with demand for food supply veterinary service. NIFA consulted with NASS and determined that the NASS variables most strongly correlated with state-level food supply veterinary service need are “Livestock and Livestock Products Total Sales ($)” and “Land Area” (acres). The “Livestock and Livestock Products Total Sales ($)” variable broadly predicts veterinary service need in a State because this is a normalized (to cash value) estimate of the extent of (live) animal agriculture in the state. The State “land area” variable predicts veterinary service need because there is positive correlation between state land area, percent of state area classified as rural and the percent of land devoted to actual or potential livestock production. Importantly, land area is also directly correlated with the number of veterinarians needed to provide veterinary services in a state because of the practical limitations relating to the maximum radius of a standard veterinary service area. Due to fuel and other cost factors, the maximum radius a veterinarian operating a mobile veterinary service can cover is approximately 60 miles, which roughly corresponds to two or three contiguous counties of average size.

Although these two NASS variables are not perfect predictors of veterinary service demand, NIFA believes they account for a significant proportion of several of the most relevant factors influencing veterinary service need and risk for the purpose of fairly and transparently estimating veterinary service demand. To further ensure fairness and equitability, NIFA is employing these variables in a straightforward and transparent manner that ensures every state and insular area is eligible for at least one nomination and that all States receive an apportionment of nominations, relative to their geographic size and size of agricultural animal industries.

Following this rationale, the Secretary is specifying the maximum number of nominations per state in order to (1) assure distribution of designated shortage areas in a manner generally reflective of the differential overall demand for food supply veterinary services in different states, (2) assure the number of shortage situation nominations submitted fosters emphasis on selection by nominators and applicants of the highest priority need areas, and (3) provide practical and proportional limitations of the administrative burden borne by SAHOs preparing nominations, and by panelists serving on the NIFA nominations review panel.

Furthermore, instituting a limit on the number of nominations is consistent with language in the Final Rule stating, “The solicitation may specify the maximum number of nominations that may be submitted by each State animal health official.”

4. State Allocation of Nominations

The number of designated shortage situations per state will be limited by NIFA, and this has an impact on the number of new nominations a state may submit each time NIFA solicits shortage nominations. In the 2016 cycle, NIFA is again accepting the number of nominations equivalent to the allowable number of designated shortage areas for each state. All eligible submitting entities will, for the 2016 cycle, have an opportunity to do the following: (1) Retain designated status for any shortage situation successfully designated in 2015 (if there is no change to any information, the nomination will be approved for 2016 without the need for re-review by the merit panel), (2) rescind any nomination officially designated in 2015, and (3) submit new nominations. The total of the number of new nominations plus designated nominations retained (carried over) may not exceed the maximum number of nominations each entity is permitted. Any amendment to an existing shortage nomination is presumed to constitute a significant change. Therefore, an amended nomination must be rescinded and resubmitted to NIFA as a new nomination and it will be evaluated by the 2016 review panel.

The maximum number of nominations (and potential designations) has been updated based on 2012 NASS Agricultural Census data. Awards from previous years have no bearing on a state's maximum number of allowable shortage nomination submissions or number of designations for subsequent years. NIFA reserves the right in the future to proportionally adjust the maximum number of designated shortage situations per state to ensure a balance between available funds and the requirement to ensure priority is given to mitigating veterinary shortages corresponding to situations of greatest need. Nomination Allocation tables for FY 2016 are available under the VMLRP Shortage Situations section of the VMLRP Web site at www.nifa.usda.gov/vmlrp.

Table I lists “Special Consideration Areas” which include any State or Insular Area not reporting data, and/or reporting less than $1,000,000 in annual Livestock and Livestock Products Total Sales ($), and/or possessing less than 500,000 acres, as reported by NASS. One nomination is allocated to any State or Insular Area classified as a Special Consideration Area.

Table II shows how NIFA determined nomination allocation based on quartile ranks of States for two variables broadly correlated with demand for food supply veterinary services: “Livestock and Livestock Products Total Sales ($)” (LPTS) and “Land Area (acres)” (LA). The total number of NIFA- designated shortage situations per state in any given program year is based on the quartile ranking of each state in terms of LPTS and LA. States for which NASS has both LPTS and LA values, and which have at least $1,000,000 LPTS and at least 500,000 acres LA (typically all states plus Puerto Rico), were independently ranked from least to greatest value for each of these two composite variables. The two ranked lists were then divided into quartiles with quartile 1 containing the lowest variable values and quartile 4 containing the highest variable values. Each state then received the number of designated shortage situations corresponding to the number of the quartile in which the state falls. Thus, a state that falls in the second quartile for LA and the third quartile for LPTS may submit a maximum of five shortage situation nominations (2 + 3). This transparent computation was made for each state thereby giving a range of 2 to 8 shortage situation nominations, contingent upon each state's quartile ranking for the two variables.

The maximum number of designated shortage situations for each State in 2016 is shown in Table III.

While Federal Lands are widely dispersed within States and Insular Areas across the country, they constitute a composite total land area over twice the size of Alaska. If the 200-mile limit U.S. coastal waters and associated fishery areas are included, Federal Land total acreage would exceed 1 billion. Both State and Federal Animal Health officials have responsibilities for matters relating to terrestrial and aquatic food animal health on Federal Lands. Interaction between wildlife and domestic livestock, such as sheep and cattle, is particularly common in the plains states where significant portions of Federal lands are leased for grazing. Therefore, both SAHOs and the Chief Federal Animal Health Officer (Deputy Administrator, Animal and Plant Health Inspection Service or designee) may submit nominations to address shortage situations on or related to Federal Lands.

NIFA emphasizes that shortage nomination allocation is set to broadly balance the number of designated shortage situations across states prior to the application and award phases of the VMLRP. Awards will be made based strictly on the peer review panels' assessment of the quality of the match between the knowledge, skills and abilities of the applicant and the attributes of the specific shortage situation applied for, thus no state will be given a preference for placement of awardees. Additionally, unless otherwise specified in the shortage nomination form, each designated shortage situation will be limited to one award.

5. FY 2016 Shortage Situation Nomination Process

As described in Section 4 above, all SAHOs will, for the FY 2016 cycle, have an opportunity to do the following: (1) Retain (carry over) designated status for any shortage situation successfully designated in 2014 and not revised, without need for reevaluation by merit review panel, (2) rescind any nomination officially designated in 2014, and (3) submit new nominations. The total number of new nominations and designated nominations retained (carried over) may not exceed the maximum number of shortages each state is allocated. An amendment to an existing shortage nomination constitutes a significant change and therefore must be rescinded and resubmitted to NIFA as a new nomination, to be evaluated by the 2016 review panel. The maximum number of nominations (and potential designations) for each state is provided on NIFA's Web site at www.nifa.usda.gov/vmlrp.

The following process is the mechanism by which a SAHO should retain or rescind a designated nomination: Each SAHO will go to the map of VMLRP designated shortage situations for FY 2015 (http://nifa.usda.gov/vmlrp-map?state=All&fy%5Bvalue%5D%5Byear%5D=2015&=Apply) to obtain the PDF copy of the nomination form for each designated area that went unfilled (not awarded) in FY 2015. If the SAHO wishes to retain (carry over) one or more designated nomination(s), the SAHO shall copy and paste the prior year information (unrevised) into the current year's nomination form and select “SUBMIT”.

Both new and retained nominations must be submitted on the Veterinary Shortage Situation Nomination form provided in the VMLRP Shortage Situations section at www.nifa.usda.gov/vmlrp.

6. Submission and Due Date

Submissions must be made by clicking the submit button on the Veterinarian Shortage Situation nomination form provided in the VMLRP Shortage Situations section at www.nifa.usda.gov/vmlrp.

This form is sent as a data file directly to the Veterinary Medicine Loan Repayment Program; National Institute of Food and Agriculture; U.S. Department of Agriculture. Shortage situation nominations, both new and carry over, must be submitted on or before February 10, 2016.

7. Period Covered

Each shortage situation is approved for one program year cycle only. However, any previously approved shortage situation not filled in a given program year may be resubmitted with no changes as a “carry-over” shortage in response to the solicitation for shortage nominations the following program year. Content of carry-over shortage nominations must not be changed in any respect, except for providing a revised date of submission and/or the name of a new submitting chief SAHO in the event the person holding that post has changed. Carry-over shortage nominations will not be required to undergo panel merit review and shall therefore be automatically approved. However, by resubmitting a nomination in a following program cycle, the SAHO is affirming that it is his or her professional judgment that the original case made for shortage status, and the original description of needs, are still current and accurate.

8. Definitions

For the purpose of implementing the solicitation for veterinary shortage situations, the definitions provided in 7 CFR part 3431 are applicable.

B. Nomination Form and Description of Fields

1. Access to Nomination Form

The veterinary shortage situation nomination form is available in the VMLRP Shortage Situations section at www.nifa.usda.gov/vmlrp. The completed form must be sent to NIFA by selecting “SUBMIT” on the nomination form.

2. Physical Location of Shortage Area or Position

Following conclusion of the nomination and designation process, NIFA will prepare lists and/or maps that include all designated shortage situations for the current program year. This effort requires a physical location that represents the center of the service area for a geographic shortage or the location of the main office or work address for a public practice and/or specialty practice shortage. For example, if the state seeks to certify a tri-county area as a food animal veterinary service (i.e., Type I) shortage situation, a road intersection approximating the center of the tri-county area would constitute a satisfactory physical location for NIFA's listing and mapping purposes. By contrast, if the state is identifying “veterinary diagnostician”, a Type III nomination, as a shortage situation, then the nominator would complete this field by filling in the primary address of the location where the diagnostician would work (e.g., State animal disease diagnostic laboratory).

3. Overall Priority of Shortage

Congressional intent is for this program to incentivize applicants to “serve in veterinary service shortage areas with the greatest need.” There is therefore the presumption that all areas nominated as shortage situations should be classified as at least “moderate priority” shortages. To assist nomination merit review panelists and award phase peer panelists in scoring shortage nominations and ranking applications from VMLRP applicants, SAHOs are asked to characterize each shortage situation nomination as “Moderate Priority”, “High Priority”, or “Critical Priority” shortages.

Moderate Priority: This shortage prioritization corresponds to an area lacking in some aspect of food supply veterinary services, commensurate with the service percent full-time-equivalency (FTE) specified. Absence of, or insufficient, trained “eyes and ears” of a veterinarian serving a food animal production area is sufficient to constitute moderate priority shortage status. This is because access to veterinary services is necessary for basic animal health, animal well-being, production profitability, and for food safety, and because high consequence disease outbreaks in agricultural animals or natural catastrophes can occur spontaneously anywhere. In such cases, early detection of disease and/or treatment of animals are essential. These activities are the authorized purview of a licensed veterinarian. In addition to the above examples, the SAHO is invited to make a unique case based on other situation-specific risk criteria, for classifying a nominated area as a Moderate Priority shortage.

High Priority: This shortage prioritization corresponds to an area lacking sufficient access to food supply veterinary services, commensurate with the service percent FTE specified. High Priority status is justified by meeting the criteria for Moderate Priority status plus any of a variety of additional concerns relating to food supply veterinary medicine and/or public health. For example, the area may exhibit an especially large census of food animals in comparison to available veterinary services. Special animal or public health threats unique to the area, such as a recent history of outbreaks of high consequence, reportable, endemic animal and zoonotic diseases (e.g., Brucellosis, TB, etc.) could also constitute a high priority threat. In addition to the above examples, the SAHO is invited to make a unique case based on other situation-specific risk criteria, for classifying a nominated area as a High Priority shortage.

Critical Priority: This shortage prioritization corresponds to an area severely lacking in some aspect of food supply or public health-related veterinary services, commensurate with the service percent FTE specified. Critical priority status is justified by meeting the criteria for moderate and/or high priority status plus any of a variety of additional serious concerns relating to the roles food supply veterinarians play in protecting animal and public health. For example, an area may exhibit an especially high potential for natural disasters or for incursion of catastrophic foreign animal disease such as Highly Pathogenic Avian Influenza, Mad Cow Disease, or Foot and Mouth Disease. High risk areas could include high through-put international animal importation sites and areas where wildlife and domestic food animals cross national borders carrying infectious disease agents (e.g., the US-Mexico border). In addition to the above examples, the submitting SAHO is invited to make a unique case based on other situation-specific risk criteria for classifying a nominated area as a Critical Priority shortage.

4. Type I Shortage—80 Percent or Greater Private Practice Food Supply Veterinary Medicine

SAHOs identifying this shortage type must check one or more boxes indicating which specie(s) constitute the veterinary shortage situation. Indicate either “Must Cover” or “May Cover” to stipulate which species a future awardee must be prepared, willing, and committed to provide services for, versus which species an awardee could treat using a minor percentage of their time obligated under a VMLRP contract. The Type I shortage situation must entail at least an 80 percent time commitment to private practice food supply veterinary medicine. The nominator will specify the minimum percent time (between 80 and 100 percent of a standard 40 hour week) a veterinarian must commit in order to satisfactorily fill the specific nominated situation. The shortage situation may be located anywhere (rural or non-rural) so long as the veterinary service shortages to be mitigated are consistent with the definition of “practice of food supply veterinary medicine.” The minimum 80 percent time commitment is, in part, recognition of the fact that occasionally food animal veterinary practitioners are expected to meet the needs of other veterinary service sectors such as clientele owning companion and exotic animals. Type I nominations are intended to address those shortage situations where the nominator believes a veterinarian can operate profitably committing between 80 and 100 percent time to food animal medicine activities in the designated shortage area, given the client base and other socio-economic factors impacting viability of veterinary practices in the area. This generally corresponds to a shortage area where clients can reasonably be expected to pay for professional veterinary services and where food animal populations are sufficiently dense to support a (or another) veterinarian. The personal residence of the veterinarian (VMLRP award recipient) and the address of veterinary practice employing the veterinarian may or may not fall within the geographic bounds of the designated shortage area.

5. Type II Shortage—30 Percent or Greater Private Practice Food Supply Veterinary Medicine in a Rural Area (as Defined)

SAHOs identifying this shortage type must check one or more boxes indicating which specie(s) constitute the veterinary shortage situation. Indicate either “Must Cover” or “May Cover” to stipulate which species a future awardee must be prepared, willing, and committed to provide services for, versus which species an awardee could treat using a minor percentage of their time obligated under a VMLRP contract. The shortage situation must be in an area satisfying the definition of “rural.” The minimum 30 percent-time (12 hours/week) commitment of an awardee to serve in a rural shortage situation is in recognition of the fact that there may be some remote or economically depressed rural areas in need of food animal veterinary services that are unable to support a practitioner predominately serving the food animal sector, yet the need for food animal veterinary services for an existing, relatively small, proportion of available food animal business is nevertheless great. The Type II nomination is therefore intended to address those rural shortage situations where the nominator believes there is a shortage of food supply veterinary services, and that a veterinarian can operate profitably committing 30 to 79 percent to food animal medicine in the designated rural shortage area. The nominator will specify the minimum percent time (between 30 and 79 percent) a veterinarian must commit in order to satisfactorily fill the specific nominated situation. Under the Type II nomination category, the expectation is that the veterinarian may provide veterinary services to other veterinary sectors (e.g., companion animal clientele) as a means of achieving financial viability. As with Type I nominations, the residence of the veterinarian (VMLRP award recipient) and/or the address of veterinary practice employing the veterinarian may or may not fall within the geographic bounds of the designated shortage area. However, the awardee is required to verify the specified minimum percent time commitment (30 percent to 79 percent, based on a standard 40 hour work week) to service within the specified geographic shortage area.

6. Type III Shortage—Public Practice Shortage (49 Percent or Greater Public Practice)

SAHOs identifying this shortage type must, in the spaces provided, identify the “Employer” and the presumptive “Position Title”, and check one or more of the appropriate boxes identifying the specialty/disciplinary area(s) being nominated as a shortage situation. This is a broad nomination category comprising many types of specialized veterinary training and employment areas relating to food supply veterinary workforce capacity and capability. These positions are typically located in city, county, State and Federal Government, and institutions of higher education. Examples of positions within the public practice sector include university faculty and staff, veterinary laboratory diagnostician, County Public Health Officer, State Veterinarian, State Public Health Veterinarian, State Epidemiologist, FSIS meat inspector, Animal and Plant Health Inspection Service (APHIS) Area Veterinarian in Charge (AVIC), and Federal Veterinary Medical Officer (VMO).

Veterinary shortage situations such as those listed above are eligible for consideration under Type III nomination. However, nominators should be aware that Congress has stipulated that the VMLRP must emphasize private food animal practice shortage situations. Accordingly, NIFA anticipates that loan repayments for the Public Practice sector will be limited to approximately 10 percent of total nominations and/or available funds.

The minimum time commitment serving under a Type III shortage nomination is 49 percent. The nominator will specify the minimum percent time (between 49 percent and 100 percent) a veterinarian must commit in order to satisfactorily fill the specific nominated situation. NIFA understands that some public practice employment opportunities that are shortage situations may be part-time positions. For example, a veterinarian pursuing an advanced degree (in a shortage discipline area) on a part-time basis may also be employed by the university for the balance of the veterinarian's time to provide part-time professional veterinary service(s) such as teaching, clinical service, or laboratory animal care that may or may not also qualify as veterinary shortage situations. The 49 percent minimum therefore provides flexibility to nominators wishing to certify public practice shortage situations that would be ineligible under more stringent minimum percent time requirements.

7. Specifying a Different Service Time Requirement (Optional)

Minimum percent FTE service obligated under the VMLRP is specified for each of the three shortage types. However, the nominator may indicate, in the box provided on page 2 of the nomination form, a greater percent FTE than the specified minimum, according to the following guidelines. For a Type I shortage, the minimum FTE obligation is 80 percent, but the nominator may specify up to 100 percent (100 percent FTE corresponds to 40 hours/week). The minimum FTE obligation is 30 percent for Type II shortage situation, but the nominator may specify up to 79 percent. Higher percentages should be submitted as Type I shortages. The minimum FTE obligation is 49 percent for Type III (public practice) shortage situations, but the nominator may specify up to 100 percent. An entry should be made in the box for specification of percent FTE if the percentage specified is other than the default minimum. Otherwise the box should be left blank. In assigning a percentage FTE, SAHOs should be cognizant of the impact this has on an eventual awardee. If the percentage is too high for an awardee to achieve, he or she could fall into breach status under the program and owe any distributed funds back to NIFA. NIFA requires formal quarterly certification that minimum service time was worked before each quarterly loan repayment is paid to the awardee's lender(s). Accordingly, NIFA advises that a nomination be submitted only if the SAHO is confident that an awardee can meet the default, or optionally specified, minimum FTE percentage each and every one of the 12 quarters (i.e., twelve 3-month periods) constituting the 3-year duration of service under the program.

8. Written Response Sections

a. Importance and Objectives of a Veterinarian Meeting This Shortage Situation

Within the allowed word limit the nominator should clearly state overarching objectives the State hopes to achieve by placing a veterinarian in the nominated situation and measure(s) awardees and NIFA could use to assess success. Include the minimum percent time commitment (within the range of the shortage type selected) the awardee is expected to devote to filling the specific food supply veterinary shortage situation.

b. Activities of a Veterinarian Meeting This Shortage Situation

Within the allowed word limit the nominator should clearly state the principal day-to-day professional activities that would have to be conducted in order to achieve the objectives described in a. above.

c. Past Efforts To Recruit and Retain a Veterinarian in the Shortage Situation

Within the allowed word limit the nominator should explain any prior efforts to mitigate this veterinary service shortage and prospects for recruiting veterinarian(s) in the future.

d. Risk of This Veterinarian Position Not Being Secured or Retained

Within the allowed word limit the nominator should explain the consequences of not addressing this veterinary shortage situation.

e. Affirmation Checkboxes

SAHOs submitting shortage nominations should check both “affirmation” boxes on the last page of the nomination form. These two affirmations provide assurance that submitting SAHOs understand the shortage nomination process and the importance of the SAHO having reasonable confidence that the nomination submitted describes a bona fide shortage area. The second assurance is particularly important to help avoid the placement of a VMLRP awardee where veterinary coverage already exists, and where undue competition could lead to insufficient clientele demand to support either the awardee or the veterinary practice originally serving the area.

C. NIFA Review of Shortage Situation Nominations

1. Review Panel Composition and Process

NIFA will convene a panel of food supply veterinary medicine experts from Federal and state agencies, as well as institutions receiving Animal Health and Disease Research Program funds under section 1433 of NARETPA, who will review the nominations and make recommendations to the NIFA Program Manager. NIFA explored the possibility of including experts from non-governmental professional organizations and sectors for this process, but under NARETPA section 1409A(e), panelists for the purposes of this process are limited to Federal and State agencies and cooperating state institutions (i.e., NARETPA section 1433 recipients), and other postsecondary educational institutions.

NIFA will review the panel recommendations and designate the VMLRP shortage situations. The list of shortage situations will be made available on the VMLRP Web site at www.nifa.usda.gov/vmlrp.

2. Review Criteria

Criteria used by the shortage situation nomination review panel and NIFA for certifying a veterinary shortage situation will be consistent with the information requested in the shortage situations nomination form. NIFA understands that defining the risk landscape associated with shortages of veterinary services throughout a state is a process that may require consideration of many qualitative and quantitative factors. In addition, each shortage situation will be characterized by a different array of subjective and objective supportive information that must be developed into a cogent case identifying, characterizing, and justifying a given geographic or disciplinary area as deficient in certain types of veterinary capacity or service. To accommodate the uniqueness of each shortage situation, the nomination form provides opportunities to present a case using both supportive metrics and narrative explanations to define and explain the proposed need. At the same time, the elements of the nomination form provide a common structure for the information collection process which will in turn facilitate fair comparison of the relative merits of each nomination by the evaluation panel.

While NIFA anticipates some arguments made in support of a given shortage situation will be qualitative, respondents are encouraged to present verifiable quantitative and qualitative evidentiary information wherever possible. Absence of quantitative data such as animal and veterinarian census data for the proposed shortage area(s) may lead the panel to recommend not approving the shortage nomination.

The maximum point value review panelists may award for each element is as follows:

20 points: Describe the objectives of a veterinarian meeting this shortage situation as well as being located in the community, area, state/insular area, or position requested above.

20 points: Describe the activities of a veterinarian meeting this shortage situation and being located in the community, area, state/insular area, or position requested above.

5 points: Describe any past efforts to recruit and retain a veterinarian in the shortage situation identified above.

35 points: Describe the risk of this veterinarian position not being secured or retained. Include the risk(s) to the production of a safe and wholesome food supply and/or to animal, human, and environmental health not only in the community but in the region, state/insular area, nation, and/or international community.

An additional 20 points will be used to evaluate overall merit/quality of the case made for each nomination.

Prior to the panel being convened, shortage situation nominations will be evaluated and scored according to the established scoring system by a primary reviewer. When the panel convenes, the primary reviewer will present each nomination orally in summary form. After each presentation, panelists will have an opportunity, if necessary, to discuss the nomination, with the primary reviewer leading the discussion and recording comments. After the panel discussion is complete, any scoring revisions will be made by and at the discretion of the primary reviewer. The panel is then polled to recommend, or not recommend, the shortage situation for designation. Nominations scoring 70 or higher by the primary reviewer (on a scale of 0 to 100), and receiving a simple majority vote in support of designation as a shortage situation will be “recommended for designation as a shortage situation.” Nominations scoring below 70 by the primary reviewer, and failure to achieve a simple majority vote in support of designation will be “not recommended for designation as a shortage situation.” In the event of a discrepancy between the primary reviewer's scoring and the panel poll results, the VMLRP program manager will be authorized to make the final determination on the nomination's designation.

Done in Washington, DC, this 1st day of December 2015.
Meryl Broussard,
Associate Director for Programs, National Institute of Food and Agriculture.

[FR Doc. 2015-30717 Filed 12-4-15; 8:45 am]

BILLING CODE 3410-22-P